DEPARTMENT OF HOMELAND SECURITY

Federal Emergency Management Agency

[Docket ID FEMA-2013-0052]

Termination of the National Flood Insurance Program Pilot Inspection Program of Insured Structures by Communities in Monroe County, the Village of Islamorada, and the City of Marathon, Florida

AGENCY: Federal Emergency Management Agency, DHS.

ACTION: Notice.

SUMMARY: FEMA is publishing this document to give notice that the pilot inspection procedure under the Pilot Inspection Program was terminated on June 28, 2013, for Monroe County, the Village of Islamorada, and the City of Marathon, Florida.

DATES: Effective Dates: The effective date of termination for the inspection procedure for Monroe County, the Village of Islamorada, and the City of Marathon, Florida, is June 28, 2013.

FOR FURTHER INFORMATION CONTACT: David Stearrett, Federal Insurance and Mitigation Administration, Federal Emergency Management Agency, 500 C Street SW., Washington, DC 20472, David.Stearrett@fema.dhs.gov, (202) 646-2953.

SUPPLEMENTARY INFORMATION: The National Flood Insurance Program (NFIP) was established by the National Flood Insurance Act of 1968, as amended (NFIA) (42 U.S.C. 4001-4129). The NFIA authorizes the Administrator of the Federal Emergency Management Agency (FEMA) to establish and carry out a national flood insurance program that enables property owners in participating communities to purchase insurance as a protection against flood losses in exchange for State and community adoption of floodplain management regulations that reduce future flood damages. Community participation in the NFIP is voluntary, and is based on an agreement between communities and the Federal Government. If a community adopts and enforces floodplain management requirements to reduce future flood risk to new construction and substantial improvements in floodplains, the Federal Government will make flood insurance available within the community as a financial protection against flood losses. 42 U.S.C. 4102(c) and 4022(a); 44 CFR 60.1(a).

In 2000, FEMA established by regulation, at 44 CFR 59.30, a pilot inspection procedure under the NFIP to help verify that structures comply with the community's floodplain management ordinances and to ensure that property owners pay flood insurance premiums commensurate with their flood risk. 65 FR 39726, June 27, 2000. The inspection procedure requires owners of insured buildings to obtain an inspection from community floodplain management officials as a condition of renewing the Standard Flood Insurance Policy (SFIP) on the building. The pilot procedure applies in the communities of: (1) Monroe County, Florida, (2) the Village of Islamorada located in Monroe County, Florida, and (3) the City of Marathon, located in Monroe County, Florida. 65 FR 39726, June 27, 2000; 67 FR 10631, March 9, 2002; 68 FR 59126, Oct. 14, 2003.

The pilot inspection procedure served as an additional tool for the three communities to enforce their flood damage prevention ordinances, and remain compliant with the NFIP regulations, given unique statutory constraints on inspections and rate of growth mandates in Florida, housing limits within the communities, and related factors. These related factors included: the nature of the flood hazard and damage potential; the number of possible violations (an estimated 2,000-4,000 illegally built enclosures in the entire County); the potential for loss of life in the event of a flood; and, the factors described above limited the County's ability to determine whether a building with an enclosure complies with the local flood damage prevention ordinance.

FEMA establishes the start date and the termination dates for implementing the pilot inspection procedure upon the recommendation of FEMA's Regional Administrator and in consultation with each community. 44 CFR 59.30(c). FEMA is permitted to extend the implementation of the inspection procedure with a new termination after consultation with the community and based on good cause. 44 CFR 59.30(c). The start date for the inspection procedure for Monroe County and the Village of Islamorada was January 1, 2001, and October 1, 2002, for the City of Marathon. The original termination date for the Village of Islamorada and the City of Marathon was January 1, 2004, and was December 31, 2007, for Monroe County. Following consultation with the three communities, FEMA determined that additional time was needed and the inspection procedure was extended to December 31, 2011 by letter to the communities. Upon further consultation and evaluation, the inspection procedure was extended to June 28, 2013, to allow for the completion of the inspection procedure.

Following consultation with the three communities, FEMA found that the Village of Islamorada, the City of Marathon, and Monroe County, Florida, had fulfilled the requirements of the inspection procedure. As a result, FEMA notified the three participating communities that the pilot inspection procedure under 44 CFR 59.30 would terminate on June 28, 2013. FEMA is publishing this document to give notice that the pilot inspection procedure under the Pilot Inspection Program at 44 CFR 59.30 was terminated on June 28, 2013 for Monroe County, the Village of Islamorada, and the City of Marathon, Florida. FEMA expects that the three communities will continue to use their authorities and enforcement provisions (e.g., additional inspections during the building permit process, other enforcement provisions in their flood damage prevention ordinance, or a Section 1316 declaration by FEMA, if all other methods fail to bring compliance) beyond June 28, 2013.

Dated: January 8, 2013.
W. Craig Fugate,
Administrator, Federal Emergency Management Agency.

[FR Doc. 2014-00521 Filed 1-13-14; 8:45 am]

BILLING CODE 9110-12-P